Title 3—

The President

Proclamation 9924 of September 9, 2019

Minority Enterprise Development Week, 2019

By the President of the United States of America

A Proclamation

During Minority Enterprise Development Week, our Nation celebrates the success of minority-owned businesses and recognizes their significant role in strengthening our country's robust economy. The contributions of these enterprises ensure American companies remain world leaders in the global marketplace.

This year marks the 50th anniversary of the Minority Business Development Agency (MBDA), which was originally named the Office of Minority Business Enterprise. When President Richard Nixon signed the Executive Order creating the Office of Minority Business Enterprise in 1969, the Nation's minority population was less than 40 million. Today, the minority population has more than tripled to 130 million, or more than 39 percent of the total American population. Minorities own almost 30 percent of America's businesses, which employ 7.2 million Americans and generate over $1 trillion a year in revenue. Indeed, the number of minority-owned businesses in operation nationwide has increased by 38 percent since 2007.

As President, I have taken critical steps to ensure that all Americans have the opportunity to prosper. During my first year in office, I achieved significant regulatory reform and signed into law the historic Tax Cuts and Jobs Act, creating opportunity zones to help those in distressed communities. These opportunity zones have ushered in a new era of economic potential and access to capital in areas that need it the most. From the rural heartland to urban centers, traditionally overlooked communities are now destinations for financial growth with potential for unlimited prosperity. I also took action to help minority-owned businesses expand on their economic success by shedding burdensome regulations. Under my direction, Federal agencies removed 14 regulations for every new regulation added during the first 2 years of my Administration, and we remain committed to freeing minority-owned businesses from unnecessary Government restraints.

With renewed emphasis on innovation, policy development, international trade, and digital transformation, MBDA is promoting policies to encourage the continued growth of minority-owned businesses and prepare them for new and emerging industries, such as artificial intelligence and space commercialization. In 2018, I signed an Executive Order establishing the President's National Council for the American Worker so that the next generation of our country's resilient workforce receives the innovative education and job training needed to succeed in a 21st century global economy. The Pledge to America's Workers, an initiative created through this Executive Order, is helping minorities and all Americans become stronger members of our labor force. Today, more than 300 companies and organizations have signed the Pledge and committed to more than 13 million new education and training opportunities, many of which will help minority workers and students be better equipped to succeed.

Minority-owned businesses are helping to power the engine of American capitalism. The ambition of minority entrepreneurs secures a better future for their families, their communities, and the Nation. This week, and throughout the year, we celebrate the great achievements of our minority-owned businesses.

NOW, THEREFORE, I, DONALD J. TRUMP, President of the United States of America, by virtue of the authority vested in me by the Constitution and the laws of the United States, do hereby proclaim September 8 through September 14, 2019, as National Minority Enterprise Development Week. I call upon all Americans to celebrate this week with programs, ceremonies, and activities to recognize the many contributions of American minority business enterprises.

IN WITNESS WHEREOF, I have hereunto set my hand this ninth day of September, in the year of our Lord two thousand nineteen, and of the Independence of the United States of America the two hundred and forty-fourth.

[FR Doc. 2019-20053

Filed 9-12-19; 11:15 am]

Billing code 3295-F9-P